DEPARTMENT OF COMMERCE

National Oceanic and Atmospheric Administration

[I.D. 060704F]

Endangered Species; File No. 1451

AGENCY: National Marine Fisheries Service (NMFS), National Oceanic and Atmospheric Administration (NOAA), Commerce.

ACTION: Issuance of permit.

SUMMARY: Notice is hereby given that NMFS, Office of Sustainable Fisheries has been issued a permit to take loggerhead (Caretta caretta), leatherback (Dermochelys coriacea), Kemp's ridley (Lepidochelys kempii), green (Chelonia mydas), and hawksbill (Eretmochelys imbricata) sea turtles for purposes of scientific research.

ADDRESSES: The permit and related documents are available for review upon written request or by appointment in the following office:

Permits, Conservation and Education Division, Office of Protected Resources, NMFS, 1315 East-West Highway, Room 13705, Silver Spring, MD 20910; phone (301)713-2289; fax (301)713-0376.

FOR FURTHER INFORMATION CONTACT: Carrie Hubard or Patrick Opay, (301)713-2289.

SUPPLEMENTARY INFORMATION: On December 1, 2003, notice was published in the Federal Register (68 FR 67152) that a request for a scientific research permit to take loggerhead, leatherback, Kemp's ridley, green and hawksbill sea turtles had been submitted by the above-named organization. The requested permit has been issued under the authority of the Endangered Species Act of 1973, as amended (ESA; 16 U.S.C. 1531 et seq.) and the regulations governing the taking, importing, and exporting of endangered and threatened species (50 CFR parts 222-226).

This permit authorizes the Permit Holder to handle, photograph, measure, weigh, collect a tissue biopsy from, flipper and Passive Integrated Responder (PIT) tag, and release turtles that have already been captured during the bottom longline fishery. The capture is covered under the incidental take statement issued as part of the Biological Opinion for the Highly Migratory Species Fishery Management Plan for Atlantic Tunas, Swordfish, and Sharks. The research will contribute to the understanding of the pelagic ecology of sea turtle species, assist in the development of more complete models of their population dynamics, and allow more reliable assessments of commercial fishery impacts.

Issuance of this permit, as required by the ESA, was based on a finding that such permit (1) was applied for in good faith, (2) will not operate to the disadvantage of the endangered species which is the subject of this permit, and (3) is consistent with the purposes and policies set forth in section 2 of the ESA.

Dated: July 1, 2004.
Tammy C. Adams,
Acting Chief, Permits, Conservation and Education Division, Office of Protected Resources, National Marine Fisheries Service.

[FR Doc. 04-15545 Filed 7-7-04; 8:45 am]

BILLING CODE 3510-22-S